DEPARTMENT OF COMMERCE

National Oceanic and Atmospheric Administration

RIN 0648-XG432

North Pacific Fishery Management Council; Public Meeting

AGENCY: National Marine Fisheries Service (NMFS), National Oceanic and Atmospheric Administration (NOAA), Commerce.

ACTION: Notice of telephonic meeting.

SUMMARY: The North Pacific Fishery Management Council (Council) Observer Advisory Committee Subgroup will meet September 5, 2018.

DATES: The meeting will be held on Wednesday, September 5, 2018, from 1 p.m. to 2:30 p.m.

ADDRESSES: The meeting will be held telephonically. Teleconference line: (907) 271-2896.

Council address: North Pacific Fishery Management Council, 605 W 4th Ave., Suite 306, Anchorage, AK 99501-2252; telephone: (907) 271-2809.

FOR FURTHER INFORMATION CONTACT: Elizabeth Figus, Council staff; telephone: (907) 271-2809.

SUPPLEMENTARY INFORMATION:

Agenda

The agenda will include: A discussion of the Observer Program Fee Analysis developments since June 2018, including an outline, alternatives, monitoring objectives, and discussion of analysis methods.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: August 17, 2018.
Tracey L. Thompson,
Acting Deputy Director, Office of Sustainable Fisheries, National Marine Fisheries Service.

[FR Doc. 2018-18118 Filed 8-21-18; 8:45 am]

BILLING CODE 3510-22-P